Title 3—

The President

Proclamation 9570 of January 20, 2017

National Day of Patriotic Devotion

By the President of the United States of America

A Proclamation

A new national pride stirs the American soul and inspires the American heart. We are one people, united by a common destiny and a shared purpose.

Freedom is the birthright of all Americans, and to preserve that freedom we must maintain faith in our sacred values and heritage.

Our Constitution is written on parchment, but it lives in the hearts of the American people. There is no freedom where the people do not believe in it; no law where the people do not follow it; and no peace where the people do not pray for it.

There are no greater people than the American citizenry, and as long as we believe in ourselves, and our country, there is nothing we cannot accomplish.

NOW, THEREFORE, I, DONALD J. TRUMP, President of the United States of America, by virtue of the authority vested in me by the Constitution and the laws of the United States, do hereby proclaim January 20, 2017, as National Day of Patriotic Devotion, in order to strengthen our bonds to each other and to our country—and to renew the duties of Government to the people.

IN WITNESS WHEREOF, I have hereunto set my hand this twentieth day of January, in the year of our Lord two thousand seventeen, and of the Independence of the United States of America the two hundred and forty-first.

[FR Doc. 2017-01798

Filed 1-23-17; 2:00 pm]

Billing code 3295-F7-P